DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Fisheries Finance Program Requirements.

OMB Control Number: 0648-0012.

Form Number(s): NOAA 88-1.

Type of Request: Regular (extension of a currently approved information collection).

Number of Respondents: 451.

Average Hours per Response: Applications, 10 hours; annual financial statements from current borrowers, 2 hours.

Burden Hours: 1,502.

Needs and Uses: This request is for extension of a currently approved information collection.

The National Oceanic and Atmospheric Administration (NOAA) operates a direct loan program to assist in financing certain actions relating to commercial fishing vessels, shoreside fishery facilities, aquaculture operations, and individual fishing quotas. Application information is required to determine eligibility pursuant to 50 CFR part 253 and to determine the type and amount of assistance requested by the applicant. An annual financial statement is required from the recipients to monitor the financial status of the loan.

Affected Public: Business or other for-profit organizations; individuals or households.

Frequency: Annually and on occasion.

Respondent's Obligation: Required to obtain or retain a benefit.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 5, 2015.
Sarah Brabson,
NOAA PRA Clearance Officer.

[FR Doc. 2015-14238 Filed 6-10-15; 8:45 am]

BILLING CODE 3510-22-P